DEPARTMENT OF ENERGY

Federal Energy Regulatory Commission

[Docket No. PF09-6-000]

Questar Overthrust Pipeline Company; Notice of Intent To Prepare an Environmental Assessment for the Proposed Loop Expansion Project and Request for Comments on Environmental Issues

April 10, 2009.

The staff of the Federal Energy Regulatory Commission (FERC or Commission) will prepare an environmental assessment (EA) that will discuss the environmental impacts of the Loop Expansion Project (project) planned by Questar Overthrust Pipeline Company (Overthrust). The project consists of about 43 miles of 36-inch-diameter pipeline within Uinta and Sweetwater Counties, Wyoming. The EA will be used by the Commission in its decision-making process to determine whether the project is in the public convenience and necessity.

This notice announces the opening of the scoping process used to gather input from the public and interested agencies on the project. Your input will help the Commission staff determine what issues need to be evaluated in the EA. Please note that the scoping period will close on May 11, 2009.

This Notice of Intent (NOI) is being sent to affected landowners; Federal, State, and local government representatives and agencies; environmental and public interest groups; Native American Tribes; other interested parties; and local libraries and newspapers. We ¹ encourage government representatives to notify their constituents of this planned project and encourage them to comment on their areas of concern.

¹ “We,” “us,” and “our” refer to the environmental staff of the FERC's Office of Energy Projects.

If you are a landowner receiving this notice, you may be contacted by a pipeline company representative about the acquisition of an easement to construct, operate, and maintain the planned facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC, “An Interstate Natural Gas Facility on My Land? What Do I Need to Know?” is available for viewing on the FERC Web site (http://www.ferc.gov). This fact sheet addresses a number of typically-asked questions, including those focusing on the use of eminent domain and how to participate in the FERC's proceedings.

Summary of the Planned Project

The planned Loop Expansion Project would consist of the following facilities:

• About 43 miles of 36-inch-diameter pipeline in Uinta and Sweetwater Counties, Wyoming;

• A bypass valve assembly tie-in at the Rock Springs Compressor Station in Rock Springs, Wyoming;

• A new crossover valve assembly at milepost (MP) 43.3; and

• Two 36-inch-diameter block valves at MPs 18.6 and 38.5.

The Loop Expansion Project would allow Overthrust to provide up to 800,000 dekatherms per day of natural gas westbound to Kern River Gas Transmission Company and to El Paso Corporation's proposed Ruby Pipeline.

A general location map of Overthrust's planned facilities is provided in appendix 1.²

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of Overthrust's planned facilities would disturb about 833 acres of land including aboveground facilities and the pipeline. Overthrust would utilize existing public roads to access the work areas. Following construction, about 262.3 acres would be maintained for permanent operation of the project's facilities while the remaining acreage would be restored and allowed to revert to former uses. About 90 percent (39.1 miles) of the planned pipeline would be collocated with existing pipeline, utility, or road ROWs.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this NOI, the Commission requests public comments on the scope of the issues to address in the EA. All comments received will be considered during the preparation of the EA. State and local government representatives are encouraged to notify their constituents of this planned action and encourage them to comment on their areas of concern.

In the EA we will discuss impacts that could occur as a result of the construction and operation of the planned project under these general headings:

• Geology and soils;

• Land use;

• Water resources, fisheries, and wetlands;

• Cultural resources;

• Vegetation and wildlife;

• Air quality and noise;

• Endangered and threatened species; and

• Public safety.

We will also evaluate possible alternatives to the planned project or portions of the project, and make recommendations on how to lessen or avoid impacts on the various resource areas.

Although no formal application has been filed, we have already initiated our NEPA review under the Commission's Pre-filing Process. The purpose of the Pre-filing Process is to encourage early involvement of interested stakeholders and to identify and resolve issues before an application is filed with the FERC. As part of our Pre-filing Process review, we have begun to contact some Federal and State agencies to discuss their involvement in the scoping process and the preparation of the EA.

Our independent analysis of the issues will be presented in the EA. Depending on the comments received during scoping, the EA may be published and mailed to Federal, State, and local agencies; public interest groups; interested individuals; affected landowners; and local newspapers and libraries. A comment period will be allotted for review if the EA is published. We will consider all comments on the EA before we make our recommendations to the Commission. To ensure your comments are considered, please carefully follow the instructions in the Public Participation section below.

With this NOI, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this NOI. The Department of the Interior's Bureau of Land Management (BLM) has already requested cooperating-agency status and will be assisting us in the scoping, analysis, and preparation of the EA. The EA will be used by both the FERC and the BLM to satisfy our NEPA requirements and support our respective decisions.

Public Participation

You can make a difference by providing us with your specific comments or concerns about the Loop Expansion Project. Your comments should focus on the potential environmental effects, reasonable alternatives, and measures to avoid or lessen environmental impacts. The more specific your comments, the more useful they will be. To ensure that your comments are timely and properly recorded, please send in your comments so that they will be received in Washington, DC on or before May 11, 2009.

For your convenience, there are three methods in which you can use to submit your comments to the Commission. In all instances please reference the project docket number PF09-6-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file to your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First Street, NE., Room 1A, Washington, DC 20426.

Label one copy of the comments for the attention of Gas Branch 1, PJ11.1.

Environmental Mailing List

An effort is being made to send this notice to all individuals, organizations, and government entities interested in and/or potentially affected by the planned project. This includes all landowners who are potential right-of-way grantors, whose property may be used temporarily for project purposes, or who own homes within distances defined in the Commission's regulations of certain aboveground facilities.

If you do not want to send comments at this time but still want to remain on our mailing list, please return the Information Request (appendix 2). If you do not return the Information Request, you will be taken off the mailing list.

Becoming an Intervenor

Once Overthrust formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time. You must wait until a formal application is filed with the Commission.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings or site visits will be posted on the Commission's calendar located at http://www.ferc.gov/EventCalendar/EventsList.aspx along with other related information.

Finally, Overthrust has established an Internet Web site for its project at http://www.overthrustexpansion.com. The site includes a project overview, contact information, regulatory overview, and construction procedures. Overthrust will continue to update its Web site with information about the project. You can also request additional information by calling Overthrust at 1-800-366-8532.

Kimberly D. Bose,
Secretary.

[FR Doc. E9-8808 Filed 4-16-09; 8:45 am]

BILLING CODE 6717-01-P